DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq), this notice announces that the Information Collection Request (ICR) abstracted below has been forwarded to the Office of Management and Budget (OMB) for extension of the currently approved collection. The ICR describes the nature of the information collection and the expected burden. The Federal Register Notice with a 60-day comment period soliciting comments on the following collection of information was published on June 12, 2002, page 40373.

DATES: Comments must be submitted on or before November 7, 2002. A comment to OMB is most effective if OMB receives it within 30 days of publication.

FOR FURTHER INFORMATION CONTACT: Judy Street on (202) 267-9895.

SUPPLEMENTARY INFORMATION:

Federal Aviation Administration (FAA)

Title: Procedures for non-federal Navigational Facilities, FAR 171.

Type of Request: Extension of a currently approved collection.

OMB Control Number: 2120-0014.

Form(s): FAA Form 6030-1, 6030-17, 6790-4, 6790-5.

Affected Public: A total of 2413 navigation facility operators.

Abstract: The non-Federal navigation facilities are electrical/electronic aids to air navigation which are purchased, installed, operated, and maintained by an entity other than the FAA and are available for use by the flying public. These aids may be located at unattended sites or airport terminals. The information kept is used by the FAA to prove that the facility is maintained within certain specified tolerances.

Estimated Annual Burden Hours: An estimated 33,116 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 2, 2002.
Judith D. Street,
FAA Information Collection Clearance Officer, Standards and Information Division, APF-100.

[FR Doc. 02-25595 Filed 10-7-02; 8:45 am]

BILLING CODE 4910-13-M